DEPARTMENT OF TRANSPORTATION

Federal Aviation Administration

Agency Information Collection Activities Under OMB Review

AGENCY: Federal Aviation Administration (FAA), DOT.

ACTION: Notice.

SUMMARY: In compliance with the Paperwork Reduction Act of 1995 (44 U.S.C. 3501 et seq.), this notice announces that the Information Collection Requests (ICR) abstracted below have been forwarded to the Office of Management and Budget (OMB) for extension of the currently approved collections. The ICR describes the nature of the information collections and the expected burden. The Federal Register notices with a 60-day comment period soliciting comments on the following collections of information were published on April 17, 2003 on page 19066.

DATES: Comments must be submitted on or before August 29, 2003.

FOR FURTHER INFORMATION CONTACT: Judy Street on (202) 267-9895.

SUPPLEMENTARY INFORMATION:

Federal Aviation Administration (FAA)

1. Title: Type Certification Procedures for Changed Products.

Type of Request: Extension of a currently approved collection.

OMB Control Number: 2120-0657.

Forms(s): N/A

Affected Public: A total of 2,558 applicants.

Abstract: This collection requires that applicants comply with the latest regulations in effect on the date of application for amended Type Certificates or Supplemental Type Certificates for aeronautical products. They now may incur an additional incremental administrative cost to determine the level of significance of the product change.

Estimated Annual Burden Hours: An estimated 18,815 hours annually.

2. Title: Noise Certification Standards for Subsonic Jet Airplanes and Subsonic Transport Category Large Airplanes.

Type of Request: Extension of a currently approved collection.

OMB Control Number: 2120-0659.

Forms(s) N/A.

Affected Public: A total of 10 applicants.

Abstract: Sections A36.5.2 and A36.5.2.5 of the Federal Aviation Administration (FAA) noise certificate standards for subsonic jet airplanes and subsonic transport category large airplanes (14 CFR part 36) contain information collection requirements. The information collected is needed for the applicant's noise certification compliance report in order to demonstrate compliance with part 36.

Estimated Annual Burden Hours: An estimated 1,350 hours annually.

3. Title: Flight Operational Quality Assurance (FOQA) Program.

Type of Request: Extension of a currently approved collection.

OMB Control Number: 2120-0660.

Forms(s): N/A.

Affected Public: A total of 30 air carriers.

Abstract: FOQA is a voluntary program for the routine collection and analysis of digital flight data from airplane operations. The purpose is to enable early corrective action for potential threats to safety. This NPRM codifies protection from punitive enforcement action based on FOQA information, and requires participating air carriers to provide aggregate FOQA data to the FAA.

Estimated Annual Burden Hours: An estimated 360 hours annually.

ADDRESSES: Send comments to the Office of Information and Regulatory Affairs, Office of Management and Budget, 725 17th NW., Washington, DC 20503, Attention FAA Desk Officer.

Comments are invited on: Whether the proposed collection of information is necessary for the proper performance of the function of the Department, including whether the information will have practical utility; the accuracy of the Department's estimates of the burden of the proposed information collection; ways to enhance the quality, utility and clarity of the information to be collected; and ways to minimize the burden of the collection of information on responders, including the use of automated collection techniques or other forms of information technology.

Issued in Washington, DC, on July 22, 2003.
Judith D. Street,
FAA Information Collection Clearance Officer, Standards and Information Division, APF-100.

[FR Doc. 03-19400 Filed 7-29-03; 8:45 am]

BILLING CODE 4910-13-P